FEDERAL COMMUNICATIONS COMMISSION

Deletion of Item From Sunshine Act Meeting

October 22, 2018.

The following item has been deleted from the list of items scheduled for consideration at the Tuesday, October 23, 2018, Open Meeting and previously listed in the Commission's Notice of October 16, 2018.

3 | WIRELESS TELE-COMMUNICATIONS AND PUBLIC SAFETY & HOMELAND SECURITY | Title: Creation of Interstitial 12.5 Kilohertz Channels in the 800 MHz Band Between 809-817/854-862 MHz (WP Docket No. 15-32, RM-11572); Amendment of Part 90 of the Commission's Rules to Improve Access to Private Land Mobile Radio Spectrum (WP Docket No. 16-261); Land Mobile Communications Council Petition for Rulemaking Regarding Interim Eligibility for 800 MHz Expansion Band and Guard Band Frequencies (RM-11719); Petition for Rulemaking Regarding Conditional Licensing Authority Above 470 MHz (RM-11722).
|  | Summary: The Commission will consider a Report and Order and Order opening up new channels in the 800 MHz Private Land Mobile Radio (PLMR) band, eliminating outdated rules, and reducing administrative burdens on PLMR licensees.

Federal Communications Commission.
Marlene Dortch,
Secretary.

[FR Doc. 2018-23854 Filed 10-29-18; 11:15 am]

BILLING CODE 6712-01-P